DEPARTMENT OF TRANSPORTATION

Coast Guard

33 CFR Part 110

[CGD 01-02-027]

RIN 2115-AA98

Anchorage Grounds; Frenchman Bay, Bar Harbor, ME

AGENCY: Coast Guard, DOT.

ACTION: Final rule.

SUMMARY: The Coast Guard hereby establishes two anchorage areas in Frenchman Bay near Bar Harbor, Maine. This action is necessary to provide designated anchorage grounds on Frenchman Bay allowing safe and secure anchorage for an increasing number of large passenger vessels calling on the Port of Bar Harbor. This action is intended to increase safety for vessels through enhanced voyage planning and also by clearly indicating the location of anchorage grounds for ships proceeding along the Frenchman Bay Recommended Route for Deep Draft vessels.

DATES: This rule is effective December 12, 2002.

ADDRESSES: Comments and material received from the public, as well as documents indicated in this preamble as being available in the docket, are part of docket CGD01-02-027 and are available for inspection or copying at First Coast Guard District, 408 Atlantic Ave., Boston, Massachusetts 02110 between 8 a.m. and 3 p.m., Monday through Friday, except Federal holidays.

FOR FURTHER INFORMATION CONTACT: Mr. J.J. Mauro, Commander (oan), First Coast Guard District, 408 Atlantic Ave., Boston, MA 02110, Telephone (617) 223-8355, email: jmauro@d1.uscg.mil.

SUPPLEMENTARY INFORMATION:

Regulatory Information

On July 8, 2002, we published a notice of proposed rulemaking (NPRM) entitled Anchorage Grounds; Frenchman Bay, Bar Harbor, ME in the Federal Register (67 FR 45071). We received one letter commenting on the proposed rule. No public hearing was requested, and none was held.

Background and Purpose

In November 1999, the Maine Department of Transportation contracted with a local firm to produce a cruise ship traffic demand management study for the Town of Bar Harbor, Maine. One of the purposes was to develop a scheduling and reservation system for arriving cruise ships so that Town facilities would not be overburdened. The study included basic research into the history and outcomes of past cruise ship visits, observation of present cruise ship operations and anchorages. Based on the findings and recommendations of this study, the Penobscot Bay and River Pilots Association requested that the Coast Guard establish two federal anchorage grounds in Frenchman Bay near Bar Harbor, Maine.

Presently, there are no designated anchorage grounds in this area. However, large vessels calling on Bar Harbor have traditionally anchored both north and south of Bar Island. These new anchorage areas coincide with the traditional areas used for large ship anchorage. The size and shape of the anchorage areas are minimal and the purpose is to conform to the changing use of the harbor and to make best use of available water.

The Coast Guard has defined the anchorage areas contained herein with the advice and consent of the Army Corps of Engineers, New England District, located at 696 Virginia Rd., Concord, MA 01742.

This regulation does not intend to exclude fishing activity or the transit of vessels in the anchorage areas. The Coast Guard anticipates minimal transit interference through the proposed anchorages by way of increased vessel anchorage.

Discussion of Comments and Changes

We received one letter from the Army Corps of Engineers commenting on the proposed rule. They recommended that no seasonal mooring buoys be established in these anchorages. Their concerns were addressed in the NPRM. The final rule has not been changed from the NPRM language except to correct two typographical errors to the latitude and longitude as follows:

For Anchorage “A”, 68°-11′-00″W is changed to read 68°-12′-00″W.

For Anchorage “B”, 44°-23′-02″N is changed to read 44°-24′-02″N.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979). We expect the economic impact of this proposed rule to be so minimal that a full regulatory evaluation under paragraph 10(e) of the regulatory policies and procedures of DOT is unnecessary.

This conclusion is based upon the fact that there are no fees, permits, or specialized requirements for the maritime industry to utilize these anchorage areas. The regulation is solely for the purpose of advancing safety of maritime commerce.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will have minimal economic impact on vessels operated by small entities. This conclusion is based upon the fact that there are no restrictions for entry or use of the anchorage targeting small entities. This regulation creates only two new anchorage areas; it does not govern its usage.

Assistance for Small Entities

Under section 213(a) of the Small Business Regulatory Enforcement Fairness Act of 1996 (Public Law 104-121), we offered to assist small entities in understanding the rule so that they could better evaluate its effects on them and participate in the rulemaking process. If the rule would affect your small business, organization, or governmental jurisdiction and you have questions concerning its provisions or options for compliance, please contact John J. Mauro at the address listed in ADDRESSES above.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(f), of Commandant Instruction M16475.lD, this rule is categorically excluded from further environmental documentation. A “Categorical Exclusion Determination” is available in the docket for inspection or copying where indicated under ADDRESSES.

This rule creates two new anchorage areas to the east of Bar Harbor. These designated anchorages will enhance the safety in the waters of Frenchman Bay, Maine by relieving vessel congestion within the bay. Thus, these two designated anchorages will provide a safer approach for deep draft vessels.

List of Subjects in 33 CFR Part 110

Anchorage grounds.

For the reasons set forth in the preamble, the Coast Guard amends 33 CFR part 110 as follows:

PART 110—ANCHORAGE REGULATIONS

1. The authority citation for part 110 continues to read as follows:

Authority: 33 U.S.C. 471, 1221 through 1236, 2030, 2035, 2071; 49 CFR 1.46 and 33 CFR 1.05-1(g).

§§ 110.130 through 110.134 [Redesignated]

2. Redesignate § 110.130 through § 110.134 as follows:

Old section | New section
§ 110.130 | 110.132
§ 110.131 | 110.133
§ 110.132 | 110.134
§ 110.133 | 110.136
§ 110.134 | 110.138

3. Add § 110.130 to part 110, subpart B, to read as follows:

§ 110.130 Bar Harbor, Maine.

(a) Anchorage grounds. (1) Anchorage “A” is that portion of Frenchman Bay, Bar Harbor, ME enclosed by a rhumb line connecting the following points:

Latitude | Longitude
44°23″43′ N | 068°12″00′ W; thence to
44°23″52′ N | 068°11″22′ W; thence to
44°23″23′ N | 068°10″59′ W; thence to
44°23″05′ N | 068°11″32′ W; returning to start.

(2) Anchorage “B” is that portion of Frenchman Bay, Bar Harbor, ME enclosed by a rhumb line connecting the following points:

Latitude | Longitude
44°24″33′ N | 068°13″09′ W; thence to
44°24″42′ N | 068°11″47′ W; thence to copied
44°24″11′ N | 068°11″41′ W; thence to
44°24″02′ N | 068°13″03′ W; returning to start.

(b) Regulations. (1) Anchorage A is a general anchorage ground reserved for passenger vessels, small commercial vessels and pleasure craft. Anchorage B is a general anchorage ground reserved primarily for passenger vessels 200 feet and greater.

(2) These anchorage grounds are authorized for use year round.

(3) Temporary floats or buoys for marking anchors will be allowed in all anchorage areas.

(4) Fixed moorings, piles or stakes are prohibited.

(5) Any vessels anchored in this area shall be capable of moving and when ordered to move by the Captain of the Port shall do so with reasonable promptness.

(6) The anchoring of vessels is under the coordination of the local Harbormaster.

Dated: October 29, 2002.
J.L. Grenier,
Captain, USCG, Acting District Commander, First Coast Guard District.

[FR Doc. 02-28681 Filed 11-8-02; 8:45 am]

BILLING CODE 4910-15-P